DEPARTMENT OF ENERGY

Federal Energy Regulatory Commission

Combined Notice of Filings #1

Take notice that the Commission received the following electric rate filings:

Docket Numbers: ER10-1123-006.

Applicants: Union Electric Company.

Description: Supplement to January 21, 2021 Notice of Change in Status of Union Electric Company.

Filed Date: 2/16/21.

Accession Number: 20210216-5300.

Comments Due: 5 p.m. ET 3/9/21.

Docket Numbers: ER20-2471-002.

Applicants: NedPower Mount Storm, LLC.

Description: Compliance filing: Informational Filing Pursuant to Section 2 of the PJM Tariff to be effective 12/31/9998.

Filed Date: 2/17/21.

Accession Number: 20210217-5049.

Comments Due: 5 p.m. ET 3/10/21.

Docket Numbers: ER21-797-001.

Applicants: PJM Interconnection, L.L.C.

Description: Tariff Amendment: Request to Defer Action: Revised ISA, SA No. 5869; Queue No. AE2-126 to be effective 12/31/9998.

Filed Date: 2/17/21.

Accession Number: 20210217-5093.

Comments Due: 5 p.m. ET 3/10/21.

Docket Numbers: ER21-917-001.

Applicants: PJM Interconnection, L.L.C.

Description: Tariff Amendment: Amendment to ISA/CSA, SA No. 5290 and 5308; Queue No. AC1-069 to be effective 1/28/2019.

Filed Date: 2/17/21.

Accession Number: 20210217-5045.

Comments Due: 5 p.m. ET 3/10/21.

Docket Numbers: ER21-1158-000.

Applicants: Midcontinent Independent System Operator, Inc.

Description: § 205(d) Rate Filing: 2021-02-17_SA 3260 MidAmerican-Holliday Creek Solar 1st Rev GIA (J524) to be effective 2/10/2021.

Filed Date: 2/17/21.

Accession Number: 20210217-5010.

Comments Due: 5 p.m. ET 3/10/21.

Docket Numbers: ER21-1159-000.

Applicants: Midcontinent Independent System Operator, Inc.

Description: § 205(d) Rate Filing: 2021-02-17_SA 3243 Deuel Harvest Wind-OTP 2nd Rev GIA (J526) to be effective 2/10/2021.

Filed Date: 2/17/21.

Accession Number: 20210217-5014.

Comments Due: 5 p.m. ET 3/10/21.

Docket Numbers: ER21-1160-000.

Applicants: Midcontinent Independent System Operator, Inc., Union Electric Company.

Description: § 205(d) Rate Filing: 2021-02-17_SA 2029 Ameren-City of Perry Missouri WDS to be effective 5/1/2021.

Filed Date: 2/17/21.

Accession Number: 20210217-5030.

Comments Due: 5 p.m. ET 3/10/21.

Docket Numbers: ER21-1161-000.

Applicants: Ohio Power Company, American Electric Power Service Corporation, PJM Interconnection, L.L.C.

Description: § 205(d) Rate Filing: AEP submits ILDSA SA No. 1419 and Two Facilities Agreements to be effective 4/19/2021.

Filed Date: 2/17/21.

Accession Number: 20210217-5082.

Comments Due: 5 p.m. ET 3/10/21.

Docket Numbers: ER21-1162-000.

Applicants: Midcontinent Independent System Operator, Inc.

Description: § 205(d) Rate Filing: 2021-02-17_SA 3262 MidAmerican Energy—MidAmerican Energy 1st Rev GIA (J527) to be effective 2/3/2021.

Filed Date: 2/17/21.

Accession Number: 20210217-5095.

Comments Due: 5 p.m. ET 3/10/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2021.
Nathaniel J. Davis, Sr.,
Deputy Secretary.

[FR Doc. 2021-03674 Filed 2-22-21; 8:45 am]

BILLING CODE 6717-01-P